DEPARTMENT OF DEFENSE

Office of the Secretary

[DOD-2007-OS-0040]

Privacy Act of 1974; System of Records

AGENCY: Office of the Secretary, DoD.

ACTION: Notice to alter a system of records.

SUMMARY: The Office of the Secretary of Defense is altering a system of records notices in its existing inventory of record systems subject to the Privacy Act of 1974, (5 U.S.C. 552a), as amended.

DATES: This proposed action will be effective without further notice on June 4, 2007, unless comments are received which result in a contrary determination.

ADDRESSES: Send comments to the OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense systems of records notices subject to the Privacy Act of 1974, (5 U.S.C. 552a), as amended, have been published in the Federal Register and are available from the address above.

The proposed systems reports, as required by 5 U.S.C. 552a(r) of the Privacy Act of 1974, as amended, were submitted on April 24, 2007, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: April 27, 2007.
L.M. Bynum,
Alternative OSD Federal Register Liaison Officer, Department of Defense.

DWHS SPM002

Pentagon Parking/National Capital Region Transit Subsidy Program (August 30, 2000, 65 FR 52706).

Changes:

System Identifier:

Delete entry and replace with “DWHS D01”.

* * * * *

System location:

Delete entry and replace with “Primary location: Parking Management Office, Pentagon Force Protection Agency, Washington Headquarters Services, Department of Defense, 1155 Defense Pentagon, Washington, DC 20301-1155.

Decentralized location: Department of Transportation, Transportation Administrative Service Center, TRANSERVE, Facilities Service Center, Parking Management Office, 400 Seventh Street, SW., Washington, DC 20590-0001.”

* * * * *

Categories of records in the system:

Add to entry “vanpool registration number, Smartrip Card number, and work e-mail address.”

* * * * *

Routine uses of records maintained in the system, including categories of users and the purpose of such uses:

Add to entry “To the Washington Metro Area Transit Authority for the purpose of registering ownership of Smartrip Cards and receiving Mass Transit Benefits automatically credited to their Smartrip Card.”

* * * * *

DWHS D01

System name:

Pentagon Parking/National Capital Region Transit Subsidy Program

System location:

Primary location: Parking Management Office, Pentagon Force Protection Agency, Washington Headquarters Services, Department of Defense, 1155 Defense Pentagon, Washington, DC 20301-1155.

Decentralized location: Department of Transportation, Transportation Administrative Service Center, TRANSERVE, Facilities Service Center, Parking Management Office, 400 Seventh Street, SW., Washington, DC 20590-0001.

Categories of individuals covered by the system:

All Federal or other personnel currently holding DoD parking permits, participating in DoD carpools, or are otherwise authorized to park at the Pentagon or Federal Office Building No. 2 (FOB2). Department of Defense personnel applying for and/or obtaining a public fare transportation subsidy in the National Capital Region.

Categories of records in the system:

Name, Social Security Number (SSN), organizational affiliation of the individual, home address, office work number, home zip code, vehicle tag number, applications for a public fare transportation subsidy, documentation on vehicular compliance with Federal and state environmental and maintenance standards, vanpool registration number, Smartrip card number, and work e-mail address.

Authority for maintenance of the system:

5 U.S.C. 301, Departmental Regulations; 10 U.S.C. 2674(c)(1); 42 U.S.C. 7418(d); 5 U.S.C. 7905; E.O. 12191; E.O. 13150; and E.O. 9397 (SSN).

Purpose(s):

To administer the Pentagon parking permit program where individuals in a carpool are allocated parking spaces, to manage the Department of Defense (DoD) National Capital Region Public Transportation Benefit Program involving DoD personnel who are eligible for public fare subsidies, and to operate vehicular environmental and maintenance involving certain vehicles which are operating on the Pentagon Reservation or FOB2.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To other Federal agencies for purposes of administering the DoD National Capital Region Public Transportation Benefit Program and/or verifying the eligibility of individuals to receive a fare subsidy pursuant to transportation benefit program operated by the DoD or other Federal agencies.

To the Environmental Protection Agency for purposes of certifying that certain vehicles operating on the Pentagon Reservation and FOB2 are in compliance with Clean Air Act requirements.

To state and local governmental authorities for the purpose of reporting vehicular compliance with statutory/regulatory maintenance standards.

To the Washington Metro Area Transit Authority for the purpose of registering ownership of Smartrip Cards and receiving Mass Transit Benefits automatically credited to their Smartrip Card.

The DoD “Blanket Routine Uses” set forth at the beginning of the OSD compilation of systems of records notices apply to this system of records.

Policies and practices for storing, retrieving, accessing, retaining, and disposing of records in the system:

Storage:

Paper records in file folders and electronic storage media.

Retrievability:

Information is retrieved by individual's name and Social Security Number (SSN), parking permit number, vehicle tag number.

Safeguards:

Records are stored in a secured area accessible only to authorized personnel. Records are accessed by the custodian of the record system and by persons responsible for using or servicing the system, who are properly screened and have a need-to-know. Computer hardware is located in controlled areas with access limited to authorized personnel.

Retention and disposal:

Disposition pending (until NARA has approved the disposition schedule for these records, treat as permanent).

System manager(s) and address:

Chief, Defense Protective Service, Real Estate and Facilities Directorate, Washington Headquarters Services, 1155 Defense Pentagon, Washington, DC 20301-1155.

Notification procedure:

Individuals seeking to determine whether information about themselves is contained in this system should address written inquiries to the Chief, Defense Protective Service, Real Estate and Facilities Directorate, Washington Headquarters Services, 1155 Defense Pentagon, Washington, DC 20301-1155.

Written requests for information should contain the full name of the individual, Social Security Number (SSN), current address and telephone number.

For personal visits, acceptable identification must be provided such as a driver's license or DoD building pass.

Record access procedures:

Individuals seeking access to information about themselves contained in this system should address written inquiries to the Chief, Defense Protective Service, Real Estate and Facilities Directorate, Washington Headquarters Services, 1155 Defense Pentagon, Washington, DC 20301-1155.

Written requests for information should contain the full name of the individual, Social Security Number (SSN), current address and telephone number.

For personal visits, acceptable identification must be provided such as a driver's license or DoD building pass.

Contesting record procedures:

The OSD rules for accessing records, for contesting contents and appealing initial agency determinations are published in OSD Administrative Instruction 81; 32 CFR part 311; or may be obtained from the system manager.

Record source categories:

Applications submitted by individuals for private vehicle and carpool parking permits and transit subsidies, applications submitted through DoD component parking control representatives for individual parking permits for cards, information provided by other federal agencies regarding parking permits and fare subsidies, and from periodic certifications and reports regarding fare subsidies.

Exemptions claimed for the system:

None.

[FR Doc. E7-8435 Filed 5-2-07; 8:45 am]

BILLING CODE 5001-06-P